DEPARTMENT OF HOMELAND SECURITY

Coast Guard

33 CFR Part 110

[CGD08-02-017]

RIN 1625-AA01 [Formerly RIN 2115-AA98]

Anchorage Regulation; Boothville Anchorage, Venice, LA

AGENCY: Coast Guard, DHS.

ACTION: Final rule.

SUMMARY: The Coast Guard is revising its regulation on Boothville Anchorage, located near mile 12.9, Lower Mississippi River, Venice, Louisiana. This revision is necessary to accommodate the construction of Sea Point, a container transshipment facility. The anchorage is reduced in size approximately 0.8 miles.

DATES: This rule is effective April 21, 2003.

ADDRESSES: Comments and material received from the public, as well as documents indicated in this preamble as being available in the docket, are part of [CGD08-02-017] and are available for inspection or copying at Commander, Eighth Coast Guard District (m), Hale Boggs Federal Bldg., 501 Magazine Street, New Orleans, LA 70130, between 8 a.m. and 4 p.m., Monday through Friday, except Federal holidays.

FOR FURTHER INFORMATION CONTACT: Lieutenant (LT) Karrie Trebbe, Project Manager for Eighth Coast Guard District Commander, telephone (504) 589-6271.

SUPPLEMENTARY INFORMATION:

Regulatory Information

On November 12, 2002, the Coast Guard published a notice of proposed rulemaking (NPRM) entitled “Anchorage Regulation; Boothville Anchorage, Venice, LA”, in the Federal Register (67 FR 68540). We received no comments on the proposed rule. No public hearing was requested, and none was held.

Background and Purpose

The Coast Guard received a request from Sea Point LLC to reduce the size of the Boothville Anchorage by approximately 0.8 miles in order to accommodate the construction of Sea Point, a container transshipment facility in Venice, Louisiana. Sea Point is designed to allow for the immediate transfer of containers from deep draft vessels to barges destined for ports on the Mississippi River and along the Gulf of Mexico.

Sea Point LLC has advised two local pilot organizations of its intended construction. The Crescent River Pilot's Association and the Associated Federal Pilots and Docking Masters of Louisiana, two organizations whose members pilot vessels through this area and anchor vessels in the anchorage, voiced no objections to the proposed reduction of the size of the anchorage.

Discussion of Comments and Changes

We received no comments on the proposed rule. Therefore, we have made no changes to the provisions of the proposed rule.

Regulatory Evaluation

This rule is not a “significant regulatory action” under section 3(f) of Executive Order 12866, Regulatory and Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under paragraph 10(e) of the regulatory policies and procedures of DOT is unnecessary. This anchorage is primarily used for deep draft vessels waiting for mooring facilities further up river, vessels waiting for fog to dissipate, and for vessels waiting for heavy weather in the Gulf of Mexico to diminish. The revision will not obstruct the regular flow of traffic nor will it adversely affect vessels requiring anchorage, as the anchorage has been more than ample to accommodate all vessels desiring to use it.

Small Entities

Under the Regulatory Flexibility Act (5 U.S.C. 601—612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities because this anchorage is primarily used for deep draft vessels waiting for mooring facilities further up river, vessels waiting for fog to dissipate, and vessels waiting for heavy weather in the Gulf of Mexico to diminish. The shortening of this anchorage will not obstruct the regular flow of traffic nor have an adverse impact to anchoring vessels.

If you are a small business entity and are significantly affected by this regulation please contact Lieutenant (LT) Karrie Trebbe, Project Manager for Eighth Coast Guard District Commander, telephone (504) 589-6271.

Assistance for Small Entities

Under section 213(a) of the Small Business Regulatory Enforcement Fairness Act of 1996 (Pub. L. 104-121), we offered to assist small entities in understanding the rule so they could better evaluate its effects on them and participate in the rulemaking processes.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order. 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard considered the environmental impact of this rule and concluded that under figure 2-1, paragraph (34)(f) of Commandant Instruction M16475.1D, this rule is categorically excluded from further environmental documentation because this rule is a reduction of the size of an anchorage already in effect.

List of Subjects in 33 CFR Part 110

Anchorage grounds.

For the reasons discussed in the preamble, the Coast Guard amends 33 CFR part 110 as follows:

PART 110—ANCHORAGE REGULATIONS

1. The authority citation for part 110 continues to read as follows:

Authority: 33 U.S.C. 471, 1221 through 1236, 2030, 2035, 2071; 49 CFR 1.46 and 33 CFR 1.05-1(g).

2. Amend § 110.195 by revising paragraph (a)(4) to read as follows:

§ 110.195 Mississippi River below Baton Rouge, LA, including South and Southwest Passes.

(a) * * *

(4) Boothville Anchorage. An area 5.5 miles in length along the right descending bank of the river extending from mile 13.0 to mile 18.5 above Head of Passes. The width of the anchorage is 750 feet. The inner boundary of the anchorage is a line parallel to the nearest bank 250 feet from the water's edge into the river as measured from the Low Water Reference Plane (LWRP). The outer boundary of the anchorage is a line parallel to the nearest bank 1,000 feet from the water's edge into the river as measured from the LWRP.

* * * * *

Dated: February 13, 2003.
Roy J. Casto,
Rear Admiral, U.S. Coast Guard, Commander, Eighth District Coast Guard.

[FR Doc. 03-6631 Filed 3-19-03; 8:45 am]

BILLING CODE 4910-15-P